DEPARTMENT OF COMMERCE

International Trade Administration

[A-549-821]

Notice of Extension of Deadline for the Preliminary Results of Antidumping Duty Administrative Review: Polyethylene Retail Carrier Bags from Thailand

AGENCY: Import Administration, International Trade Administration, Department of Commerce.

EFFECTIVE DATE: April 5, 2007.

FOR FURTHER INFORMATION CONTACT: Kristin Case or Richard Rimlinger, AD/CVD Operations, Office 5, Import Administration, International Trade Administration, U.S. Department of Commerce, 14th Street and Constitution Avenue, NW, Washington, DC 20230; telephone: (202) 482-3174 and (202) 482-4477, respectively.

SUPPLEMENTARY INFORMATION:

Extension of Deadline

At the request of various parties, the Department of Commerce (the Department) initiated an administrative review of the antidumping duty order on polyethylene retail carrier bags from Thailand for the peri1od August 1, 2005, through July 31, 2006. See Initiation of Antidumping and Countervailing Duty Administrative Reviews, 71 FR 57465 (September 29, 2006). Section 751(a)(3)(A) of the Tariff Act of 1930, as amended (the Act), requires the Department to issue preliminary results of review within 245 days after the last day of the anniversary month of an order for which a review is requested and final results within 120 days after the date on which the preliminary results were published. If it is not practicable to complete the review within these time periods, section 751(a)(3)(A) of the Act allows the Department to extend the time limit for the preliminary results to a maximum of 365 days after the last day of the anniversary month.

We determine that it is not practicable to complete the preliminary results of this review within the current time limit because of the number of respondents in this review and the complexity of the issues under analysis. Further, we received below-cost allegations and are currently conducting below-cost investigations for several of the respondents. Accordingly, because we need to analyze and incorporate the information from recently filed submissions, we are extending the deadline for issuing the preliminary results of this review by 60 days until July 2, 2007.

This notice is published in accordance with sections 751(a)(3)(A) and 777(i) of the Act.

Dated: March 30, 2007.
Stephen J. Claeys,
Deputy Assistant Secretary for Import Administration.

[FR Doc. E7-6406 Filed 4-4-07; 8:45 am]

BILLING CODE 3510-DS-S